DEPARTMENT OF COMMERCE

National Oceanic and Atmospheric Administration

Proposed Information Collection; Comment Request; Marine Recreational Information Program Social Network In-Person Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 19, 2019.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Adam Rettig, (301) 427-8216, or Adam.Rettig@NOAA.gov.

SUPPLEMENTARY INFORMATION:

I. Abstract

This request is for new information collection. The title will be “Marine Recreational Information Program Social Network Analysis In-Person Survey”.

In its 2017 review of NOAA Fisheries' Marine Recreational Information Program (MRIP), the National Academies of Sciences, Engineering, and Medicine recommended the program enhance its communications and outreach activities, particularly among the recreational fishing community. To address this recommendation, MRIP will administer two voluntary surveys; (1) the MRIP Social Network Survey (a mail survey, see 60d FRN published February 2, 1918 (83 FR 4909)) and (2) the MRIP Social Network Analysis In-Person Survey. This data collection will help identify relationships, networks, and channels through which information flows among the recreational fishing community. This survey will help MRIP more effectively engage with its audiences by identifying key influencers and information pathways, and the areas of greatest need and opportunity for relationship-building.

The MRIP Social Network Analysis In-Person Survey will interview saltwater anglers in three communities that are particularly representative as revealed by the MRIP Social Network Survey (mail survey). The identification of these communities can be based on the distribution of licensed anglers, level of angler fishing avidity, level of awareness of state and Federal recreational fisheries management activities, or other parameters measured in the MRIP Social Network Survey (mail survey) or other NOAA Fisheries surveys. In each fishing community to be evaluated, between ten and fifteen initial respondents shall be interviewed for the survey. The initial respondents will not be selected from the sample of individuals used in the mail survey. Rather, active recreational anglers will be asked to participate in the survey during visits to relevant businesses and entities (marinas, bait and tackle shops, fishing clubs, state natural resource agencies, etc.,) within the community. The interviews will gather qualitative information on each respondent's information sharing network, including how information sources are connected. Respondents will be asked to provide names of additional contacts from their network that could provide meaningful information for the study. These named contacts will then be contacted and interviewed in the same manner as the initial respondents. The in-person survey will conclude once interviews have been completed for 60 respondents within each community.

Questions will explore demographics, fishing practices, specific names of individuals, key locations, media sources, and websites that anglers rely on for communication about fisheries data collection and management issues. The characteristics about the sources that make respondents perceive them as reliable or trustworthy sources will be determined by exploring attitudes toward Federal and state fishery management agencies (e.g., why agencies are/are not perceived as trustworthy; how agencies can improve communication, etc.). Questions will also explore the personal level of engagement in the fisheries data collection and management process as well as the level of engagement of information sharing partners. These data will be used to identify key information sources for recreational anglers, evaluate regional differences in information sources, and evaluate recreational angler confidence in management and data collection efforts. The information obtained will allow MRIP to more effectively communicate with recreational anglers on data collection issues by focusing communications efforts on important network channels.

II. Method of Collection

Information will be collected via in-person surveys.

III. Data

OMB Control Number: 0648-xxxx.

Form Number(s): None.

Type of Review: Regular submission (new information collection).

Affected Public: Individuals or households.

Estimated Number of Respondents: 180.

Estimated Time per Response: 30 minutes.

Estimated Total Annual Burden Hours: 90.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 18, 2018.
Sarah Brabson,
NOAA PRA Clearance Officer.

[FR Doc. 2018-27629 Filed 12-20-18; 8:45 am]

BILLING CODE 3510-22-P